DEPARTMENT OF EDUCATION

Submission for OMB Review; Comment Request

AGENCY: Department of Education.

SUMMARY: The IC Clearance Official, Regulatory Information Management Services, Office of Management invites comments on the submission for OMB review as required by the Paperwork Reduction Act of 1995.

DATES: Interested persons are invited to submit comments on or before August 2, 2007.

ADDRESSES: Written comments should be addressed to the Office of Information and Regulatory Affairs, Attention: Education Desk Officer, Office of Management and Budget, 725 17th Street, NW., Room 10222, Washington, DC 20503. Commenters are encouraged to submit responses electronically by e-mail to oira_submission@omb.eop.gov or via fax to (202) 395-6974. Commenters should include the following subject line in their response “Comment: [insert OMB number], [insert abbreviated collection name, e.g., “Upward Bound Evaluation”]. Persons submitting comments electronically should not submit paper copies.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: June 27, 2007.
Angela C. Arrington,
IC Clearance Official, Regulatory Information Management Services, Office of Management.

Office of Special Education and Rehabilitative Services

Type of Review: Revision.

Title: Performance Report: Personnel Development for the Individuals with Disabilities Education Act (IDEA).

Frequency: Annually.

Affected Public: Not-for-profit institutions.

Reporting and Recordkeeping Hour Burden:

Responses: 450.

Burden Hours: 3,510.

Abstract: This package is a revision and contains instructions and the form necessary for grantees and contractors supported under the Individuals with Disabilities Education Act (IDEA), Personnel Development to Improve Services and Results for Children with Disabilities, CFDA No. 84.325. Data obtained are used to evaluate and monitor the implementation of IDEA and for Congressional reporting. Analysis of these data will be used in the following ways: (a) To inform the activities and priorities specific to personnel preparation conducted by the U.S Department of Education; (b) to determine variation in personnel preparation and factors related to that variation; and (c) to evaluate the outcomes of the IDEA and the Office of Special Education Programs' (OSEP) performance measures under the Government Performance and Results Act (GPRA) and the Program Assessment Rating Tool (PART). OSEP revisions have: (a) Added six items to the data collection instrument to collect data required for reporting under the PART (these additional items will only be requested for students that have completed the preparation program and include data on their knowledge and skill attainment and on their highly qualified teacher status (or qualified for paraprofessionals, or fully certified for related service providers and early intervention service providers); (b) revised the race and ethnicity items to reflect current OMB policy; (c) changed collection to better account for all students that benefit from the grant, as requested by both grantees and OSEP. OSEP will now collect data on all students that participated in grant supported preparation, not just those students that received direct funding. This change will increase the number of students that grantees will enter data on. To address this change, all text limiting responses to those students “receiving grant support” have been removed; and (d) enhanced instructions for a few items to make the form more user-friendly and diminish response ambiguity.

Requests for copies of the information collection submission for OMB review may be accessed from http://edicsweb.ed.gov, by selecting the “Browse Pending Collections” link and by clicking on link number 3309. When you access the information collection, click on “Download Attachments” to view. Written requests for information should be addressed to U.S. Department of Education, 400 Maryland Avenue, SW., Potomac Center, 9th Floor, Washington, DC 20202-4700. Requests may also be electronically mailed to ICDocketMgr@ed.gov or faxed to 202-245-6623. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E7-12845 Filed 7-2-07; 8:45 am]

BILLING CODE 4000-01-P